FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted December 1, 2012 Thru December 31, 2012
12/03/2012
20130134 | G | The Walt Disney Company; George W. Lucas; The Walt Disney Company.
20130208 | G | Liberty Interactive Corporation; TripAdvisor, Inc.; Liberty Interactive Corporation.
20130244 | G | Guard Control Partnership, L.P.; H.I.G. Capital Partners III, L.P.; Guard Control Partnership, L.P.
20130253 | G | Walter Investment Management Corp.; Residential Capital, LLC; Walter Investment Management Corp.
20130258 | G | U.S. Bancorp; FSV Payment Systems, Inc.; U.S. Bancorp.
20130260 | G | Accenture plc; Azaleos Corporation; Accenture plc.
20130261 | G | Triumph Group, Inc.; John W. Dahlberg; Triumph Group, Inc.
20130262 | G | Deloitte LLP; Monitor Company Group Ltd Partnership; Deloitte LLP.
20130269 | G | American Capital, Ltd.; Hudson Ferry Capital, L.P.; American Capital, Ltd.
20130273 | G | KIA VIII (Power), L.P.; Huntsman Gay Capital Partners Fund, L.P.; KIA VIII (Power), L.P.
20130274 | G | Sun Pharmaceutical Industries Ltd.; DUSA Pharmaceuticals, Inc.; Sun Pharmaceutical Industries Ltd.
20130281 | G | Plains All American Pipeline, L.P.; M12, LLC; Plains All American Pipeline, L.P.
20130285 | G | Donald L. Kotula; Francois Pinault; Donald L. Kotula.
20130296 | G | KKR North America Fund XI, L.P.; Alliant Holdings I, LLC; KKR North America Fund XI, L.P.
20130297 | G | ACP Investment Fund, L.P.; NewCo; ACP Investment Fund, L.P.
20130299 | G | Remington Outdoor Company, Inc.; Synergy Outdoors, LLC; Remington Outdoor Company, Inc.
20130302 | G | Tinicum L.P.; David A. Werner; Tinicum L.P.
20130303 | G | Tinicum L.P.; Jordan A. Law; Tinicum L.P.
12/04/2012
20130233 | G | Lee Cheow Ming Doris Damaris; Helix Energy Solutions Group, Inc.; Lee Cheow Ming Doris Damaris.
20130265 | G | Al Chem (Cayman) Ltd.; Cytec Industries, Inc.; Al Chem (Cayman) Ltd.
20130271 | G | First Reserve Fund XI, L.P.; NFR Holdings LLP; First Reserve Fund XI, L.P.
20130275 | G | FR XII Delta MV, L.P.; Post Oak Companies LP; FR XII Delta MV, L.P.
20130277 | G | Mason Wells Buyout Fund II, LP; Charter Films, Inc.; Mason Wells Buyout Fund II, LP.
20130286 | G | FS Equity Partners VI, LP; Trilantic Capital Partners IV, LP; FS Equity Partners VI, LP.
20130305 | G | Acadia Healthcare Company, Inc.; Behavioral Centers of America, LLC; Acadia Healthcare Company, Inc.
12/05/2012
20130227 | G | JPMorgan Chase & Co.; MetLife, Inc.; JPMorgan Chase & Co.
20130257 | G | Equifax Inc.; Computer Sciences Corporation; Equifax Inc.
20130279 | G | Arsenal Capital Partners III, LP; Marvin S. Wool and Harlene E. Wool; Arsenal Capital Partners III, LP.
20130337 | G | Verizon Communications Inc.; Leap Wireless International, Inc.; Verizon Communications Inc.
20130351 | G | Leap Wireless International, Inc.; Deutsche Telekom AG; Leap Wireless International, Inc.
12/06/2012
20130159 | G | SoftBank Corp.; Sprint Nextel Corporation; SoftBank Corp.
20130195 | G | American Capital, Ltd.; Arlington Capital Partners II, L.P.; American Capital, Ltd.
20130263 | G | Bethesda, Inc.; Evendale Medical Center, LLC; Bethesda, Inc.
20130264 | G | Catholic Health Initiatives; Evendale Medical Center, LLC; Catholic Health Initiatives.
20130267 | G | Precision Castparts Corp.; Littlejohn Fund HI, LP; Precision Castparts Corp.
20130282 | G | Arsenal Capital Partners III LP; TM Holding, LLC; Arsenal Capital Partners III LP.
20130323 | G | Ulysses Participation S.a.r.l.; Magnablend Holdings, Inc.; Ulysses Participation S.a.r.l.
12/07/2012
20130304 | G | L'Oreal S.A.; Castanea Partners III, L.P.; L'Oreal S.A.
20130319 | G | AutoNation, Inc.; Scott K. Ginsburg; AutoNation, Inc.
12/10/2012
20130190 | G | Clean Harbors, Inc.; Safety-Kleen, Inc.; Clean Harbors, Inc.
20130301 | G | Rush Enterprises, Inc.; Timothy E. Reilly; Rush Enterprises, Inc.
20130318 | G | Court Square Capital Partners II, L.P.; Kenneth and Theresa King, spouses; Court Square Capital Partners II, L.P.
20130338 | G | Avera Health; Catholic Health Initiatives; Avera Health.
20130341 | G | First Reserve Fund XI, L.P.; Enerven Compression LLC; First Reserve Fund XI, L.P.
20130345 | G | Court Square Capital Partners III, L.P.; Lake Capital Partners II LP; Court Square Capital Partners III, L.P.
20130357 | G | Smith & Nephew plc; HealthPoint, Ltd.; Smith & Nephew plc.
20130362 | G | HKW Capital Partners IV, L.P.; Nabors Industries Ltd.; HKW Capital Partners IV, L.P.
20130373 | G | Warburg Pincus Private Equity X, L.P.; Ajit A. Prabhu; Warburg Pincus Private Equity X, L.P.
20130374 | G | Warburg Pincus Private Equity X, L.P.; Jagadish S. Melligeri; Warburg Pincus Private Equity X, L.P.
20130406 | G | Saputo Inc.; Dean Foods Company; Saputo Inc.
12/11/2012
20130259 | G | Carlisle Companies Incorporated; Belden Inc.; Carlisle Companies Incorporated.
20130270 | G | Parthenon Investors IV, L.P.; White River Capital, Inc.; Parthenon Investors IV. L.P.
20130276 | G | Eaton Vance Corp.; Michael E. Dougherty; Eaton Vance Corp.
20130300 | G | James H. Bodenstedt; John Antonaccio; James H. Bodenstedt.
20130312 | G | Onex Partners III. L.P.; Compass Investors Inc.; Onex Partners III, L.P.
20130329 | G | FIF HE Holdings LLC; J. Paul Reddam; FIF HE Holdings LLC.
20130342 | G | Cerberus Institutional Partners, L.P.; Anderson Perforating, Ltd.; Cerberus Institutional Partners, L.P.
20130353 | G | KIA VIII (WAC), L.P. Filmore WAC Holdings I, LLC; KIA VIII (WAC), L.P.
20130358 | G | Rizvi Opportunistic Equity Fund II, L.P.; SESAC Holdings, Inc.; Rizvi Opportunistic Equity Fund II, L.P.
20130360 | G | Pfingsten Partners Fund IV, L.P.; Peter Pollak; Pfingsten Partners Fund IV, L.P.
20130361 | G | PartnerRe Ltd.; FTVentures III, L.P.; PartnerRe Ltd.
20130363 | G | FMI Associates, L.L.C.; In-Shape Health Clubs, Inc.; FMI Associates, L.L.C.
20130365 | G | Gap Inc.; Intermix Holdco, Inc.; Gap Inc.
20130380 | G | Audax Private Equity Fund IV, L.P.; William Patrick Heckethorn; Audax Private Equity Fund IV, L.P.
20130381 | G | Audax Private Equity Fund IV, L.P.; John Michael Heckethorn; Audax Private Equity Fund IV, L.P.
20130388 | G | The Resolute Fund II, L.P.; The American Fast Freight Employee Stock; The Resolute Fund II, L.P.
20130391 | G | Aurora Equity Partners IV L.P.; Riverside Capital Appreciation Fund V, L.P.; Aurora Equity Partners IV L.P.
20130398 | G | Atlas Pipeline Partners, L.P.; EnCap Energy Capital Fund VII, L.P.; Atlas Pipeline Partners, L.P.
20130403 | G | Apollo Investment Fund VII, L.P.; The McGraw-Hill Companies, Inc.; Apollo Investment Fund VII, L.P.
12/12/2012
20130102 | G | C&C Group PLC; Vermont Hard Cider Company, LLC C&C Group PLC.
20130308 | G | Harvest Partners VI, L.P.; The Garretson Firm Resolution Group, L.L.C.; Harvest Partners VI, L.P.
20130331 | G | IDEX Corporation; Red Valve Company. Inc.; IDEX Corporation.
20130335 | G | Green Equity Investors VI, L.P.; CCC Holdings Inc.; Green Equity Investors VI, L.P.
20130336 | G | PVF Holdings LLC; Mr. Ronnie Crossland; PVF Holdings LLC.
20130371 | G | LMI Aerospace, Inc.; Tech Investments II, LLC; LMI Aerospace, Inc.
20130396 | G | Clayton, Dublier & Rice Fund VIII, L.P.; Enhanced Equity Fund, L.P.; Clayton, Dublier & Rice Fund VIII, L.P.
12/13/2012
20130283 | G | Madison Dearborn Capital Partners VI-A, L.P.; Vista Equity Partners Fund III, L.P.; Madison Dearborn Capital Partners VI-A, L.P.
20130314 | G | Warburg Pincus Private Equity XI, L.P.; CROSSMARK Holdings, Inc.; Warburg Pincus Private Equity XI, L.P.
20130383 | G | Lee Equity Partners Fund, L.P.; Jack Wachob; Lee Equity Partners Fund, L.P.
20130399 | G | Starr International Company, Inc.; GRD Holding LP; Starr International Company, Inc.
12/14/2012
20130125 | G | Mohawk Industries, Inc.; Pfleiderer Aktiengesellschaft: Mohawk Industries, Inc.
20130320 | G | Merit Medical Systems, Inc.; General Electric Company; Merit Medical Systems Inc.
20130377 | G | H.I.G. Capital Partners IV, L.P.; Ricky Baker; H.I.G. Capital Partners IV, L.P.
20130379 | G | Bilfinger SE; Weatherford International Ltd.; Bilfinger SE.
20130392 | G | Thoma Bravo Fund X, L.P.; SRS Software, Inc.; Thoma Bravo Fund X, L.P.
20130393 | G | Fidelity National Financial, Inc.; Internet Healthcare Group LLC; Fidelity National Financial, Inc.
20130394 | G | Tenet Healthcare Corporation; Lakewood IPA, Inc.; Tenet Healthcare Corporation.
20130401 | G | Apax VIII-A L.P.; Nike, Inc.; Apax VIII-A L.P.
20130404 | G | Wright Medical Group, Inc.; BioMimetic Therapeutics, Inc.; Wright Medical Group, Inc.
20130405 | G | Algonquin Power and Utility Corp.; Atmos Energy Corporation; Algonquin Power and Utility Corp.
20130416 | G | KRG Capital Fund IV, L.P.; GTCR Fund IX/A, L.P.; KRG Capital Fund IV, L.P.
20130418 | G | Crestview Partners II, L.P.; American Securities Partners IV, L.P.; Crestview Partners II, L.P.
20130420 | G | Pershing Square Holdings, Ltd.; Canadian Pacific Railway Limited; Pershing Square Holdings, Ltd.
12/17/2012
20130223 | G | Total System Services, Inc.; ProPay, Inc.; Total System Services, Inc.
20130272 | G | Phillip Ean Cohen; Mr. James Carnes; Phillip Ean Cohen.
20130311 | G | Acadia Healthcare Company, Inc.; 2C4K, L.P.; Acadia Healthcare Company, Inc.
20130321 | G | Welsh, Carson, Anderson & Stowe XI, L.P.; iMed Group, LC; Welsh, Carson, Anderson & Stowe XI, L.P.
20130370 | G | ZM Capital, L.P.; ABRY Partners V, L.P.; ZM Capital, L.P.
20130385 | G | Christopher E. MacAllister; Daniel J. Babcock; Christopher E. MacAllister.
20130427 | G | Golden Gate Capital Opportunity Fund, L.P.; Snow Phipps Group, L.P.; Golden Gate Capital Opportunity Fund, L.P.
12/18/2012
| 20130255 | G | Toshiba Corporation; Toshiba Corporation; Toshiba Corporation.
20130421 | G | Pershing Square Holdings, Ltd.; Beam Inc.; Pershing Square Holdings, Ltd.
20130422 | G | Pershing Square Holdings, Ltd.; J.C. Penney Company, Inc.; Pershing Square Holdings, Ltd.
20130423 | G | Pershing Square Holdings, Ltd.; The Procter & Gamble Company; Pershing Square Holdings, Ltd.
20130429 | G | Lagardere SCA; Excel Sports Management, LLC; Lagardere SCA.
12/19/2012
20130236 | G | Cisco Systems, Inc.; Meraki, Inc.; Cisco Systems, Inc.
20130407 | G | Alfa Laval AB; Clearview ACE Acquisition Company, LLC; Alfa Laval AB.
20130409 | G | Citrix Systems, Inc.; Zenprise, Inc.; Citrix Systems, Inc.
12/20/2012
20130313 | G | Mercy Health; Jefferson Health System; Mercy Health.
20130364 | G | Warburg Pincus Private Equity XI. L.P.; Morgan Stanley; Warburg Pincus Private Equity XI, L.P.
12/21/2012
20130165 | G | McKesson Corporation; PSS World Medical, Inc.; McKesson Corporation.
20130359 | G | Leucadia National Corporation; Jefferies Group, Inc.; Leucadia National Corporation.
20130412 | G | Global Eagle Acquisition Corp.; PAR Investment Partners, L.P.; Global Eagle Acquisition Corp.
20130424 | G | Gregory B. Maffei; Liberty Media Corporation; Gregory B. Maffei.
20130425 | G | Gregory B. Maffei; Liberty Interactive Corporation; Gregory B. Maffei.
20130440 | G | GTCR Fund X/A LP; Enhanced Equity Fund, L.P.; GTCR Fund X/A LP.
20130452 | G | The Medicines Company; Incline Therapeutics, Inc.; The Medicines Company.
12/26/2012
20130330 | G | John C. Malone; The John Risley 2009 Family Trust; John C. Malone.
20130433 | G | Sanofi; Johnson & Johnson; Sanofi.
20130434 | G | Young Innovations Holdings LLC; Young Innovations, Inc.; Young Innovations Holdings LLC.
20130437 | G | John C. Malone; The Colin MacDonald 2009 Family Trust; John C. Malone.
20130439 | G | Chesapeake Energy Corporation; FTS International, Inc.; Chesapeake Energy Corporation.
20130441 | G | Barry Diller; Expedia, Inc.; Barry Diller.
20130445 | G | Freeport-McMoRan Copper & Gold Inc.; Plains Exploration & Production Company; Freeport-McMoRan Copper & Gold Inc.
20130446 | G | Freeport-McMoRan Copper & Gold Inc.; McMoRan Exploration Co.; Freeport-McMoRan Copper & Gold Inc.
12/27/2012
20130343 | G | Elliott International Limited; Compuware Corporation; Elliott International Limited.
12/30/2012
20130350 | G | Fast Retailing Co., Ltd.; JB Investors, L.P.; Fast Retailing Co., Ltd.
12/31/2012
20130453 | G | Dr. Guangiu Lu; A123 Systems, Inc.; Dr. Guangiu Lu.
20130478 | G | Bayer AG; Teva Pharmaceutical Industries Ltd.; Bayer AG.

FOR FURTHER INFORMATION CONTACT: Renee Chapman, Contact Representative; or Theresa Kingsberry, Legal Assistant; Federal Trade Commission, Premerger Notification Office, Bureau Of Competition, Room H-303, Washington, DC 20580, (202) 326-3100.

By Direction of the Commission.
Donald S. Clark,
Secretary.

[FR Doc. 2013-01183 Filed 1-23-13; 8:45 am]

BILLING CODE 6750-01-M